DEPARTMENT OF ENERGY

Federal Energy Regulatory Commission

Notice of Non-Project Use Of Project Lands

October 4, 2000.

Take notice that the following hydroelectric application has been filed with the Commission and is available for public inspection:

a. Application Type: Non-Project Use of Project Lands.

b. Project No.: 2197-042.

c. Date Filed: August 1, 2000.

d. Applicant: Alcoa Power Generating Inc. (formerly Yadkin Inc.).

e. Name of Project: Yadkin Hydroelectric Project.

f. Location: The Yadkin Hydroelectric Project is on the Yadkin/Pee Dee River in Montgomery, Stanly, Davidson, Rowan, and Davie Counties, North Carolina. The Yadkin Project contains the following reservoirs: High Rock, Tuckertown, Narrows, and Falls.

g. Applicant Contact: Mr. Gene Ellis, Alcoa Power Generating Inc., P.O. Box 576, Badin, NC 28009-0576; (704) 422-5606.

h. FERC Contact: Questions about this notice can be answered by Steve Hocking as (202) 219-2656 or e-mail address: steve.hocking@ferc.fed.us. Please note the Commission cannot accept comments, recommendations, motions to intervene or protests sent by e-mail; these documents must be filed as described below.

i. Deadline for filing comments, recommendations, motions to intervene and protests: November 13, 2000.

All documents (original and eight copies) should be filed with: Davis P. Boergers, Secretary, Federal Energy Regulatory Commission, 888 First Street, NE., Washington, DC 20426.

The Commission's Rules and Practice and Procedure require all intervenors filing documents with the Commission to serve a copy of that document on each person whose name appears on the official service list for the project. Further, if an intervenor files comments or documents with the Commission relating to the merits of an issue that may affect the responsibilities of a particular resource agency, they must also serve a copy of the document on that resource agency.

j. Description of the Application: Alcoa Power Generating, Inc. (Alcoa), licensee for the Yadkin Hydroelectric Project, filed a non-project use of project lands application. In its application, Alcoa proposes to grant a permit to KEJ Marketing Co., Inc., for the construction of four boat docks with a total of 48 boat slips and one boat launch ramp on Narrows Reservoir, part of the Yadkin Project. Alcoa proposes to grant a second permit to Heron Bay Homeowners Association for the use and operation of the above facilities. The above facilities would not be open to the public; they would be for Heron Bay residents only.

k. Locations of the application: A copy of the application is available for inspection and reproduction at the Commission's Public Reference Room at 888 First Street NE., Room 2A, Washington, DC 20426, or by calling (202) 208-1371. The application may be viewed on the web at http://www.ferc.fed.us/online/rims.htm. Call (202) 208-2222 for assistance.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS,” “RECOMMENDATIONS FOR TERMS AND CONDITIONS,” “PROTEST,” or “MOTION TO INTERVENE,” as applicable, and the Project Number (P-2197-042) of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Acting Secretary.

[FR Doc. 00-26062 Filed 10-10-00; 8:45 am]

BILLING CODE 6717-01-M